NUCLEAR REGULATORY COMMISSION

Advisory Committee on the Medical Uses of Isotopes: Meeting Notice

AGENCY: U.S. Nuclear Regulatory Commission.

ACTION: Notice of Meeting.

SUMMARY: The U.S. Nuclear Regulatory Commission (NRC) will convene a meeting of the Advisory Committee on the Medical Uses of Isotopes (ACMUI) on September 29-30, 2014. A sample of agenda items to be discussed during the public session includes: (1) A discussion on the physical presence requirements for the Leksell Gamma Knife ® Perfexion ™; (2) a discussion on why and how certain emerging medical technologies are licensed under 10 CFR 35.1000; (3) a presentation on FDA's role regarding the global molybdenum-99 shortage; (4) an update on the NRC staff's efforts related to the release of patients administered radioactive material; (5) a discussion on the various mechanisms in use or proposed for reporting medical incidents; and (6) a discussion on the recommendations regarding the current medical event reporting criteria for yttrium-90 microspheres. The agenda is subject to change. The current agenda and any updates will be available at http://www.nrc.gov/reading-rm/doc-collections/acmui/meetings/2014.html or by emailing Ms. Sophie Holiday at the contact information below.

Purpose: Discuss issues related to 10 CFR Part 35 Medical Use of Byproduct Material.

Date and Time for Closed Sessions: September 30, 2014, from 1:30 p.m. to 3:00 p.m. The session on September 30, 2014 will be closed for ACMUI training.

Date and Time for Open Sessions: September 29, 2014, from 8:30 a.m. to 5:00 p.m. and September 30, 2014, from 8:00 a.m. to 1:30 p.m.

Address for Public Meeting: U.S. Nuclear Regulatory Commission, Two White Flint North Building, Room T2-B3, 11545 Rockville Pike, Rockville, Maryland 20852.

Public Participation: Any member of the public who wishes to participate in the meeting in person or via phone should contact Ms. Holiday using the information below. The meeting will also be webcast live: video.nrc.gov.

Contact Information: Sophie J. Holiday, email: Sophie.Holiday@nrc.gov., telephone: (301) 415-7865.

Conduct of the Meeting

Bruce R. Thomadsen, Ph.D., will chair the meeting. Dr. Thomadsen will conduct the meeting in a manner that will facilitate the orderly conduct of business. The following procedures apply to public participation in the meeting:

1. Persons who wish to provide a written statement should submit an electronic copy to Ms. Holiday at the contact information listed above. All submittals must be received by September 24, 2014, and must pertain to the topic on the agenda for the meeting.

2. Questions and comments from members of the public will be permitted during the meeting, at the discretion of the Chairman.

3. The draft transcript and meeting summary will be available on ACMUI's Web site http://www.nrc.gov/reading-rm/doc-collections/acmui/meetings/2014.html on or about November 11, 2014.

4. Persons who require special services, such as those for the hearing impaired, should notify Ms. Holiday of their planned attendance.

This meeting will be held in accordance with the Atomic Energy Act of 1954, as amended (primarily Section 161a); the Federal Advisory Committee Act (5 U.S.C. App); and the Commission's regulations in Title 10, U.S. Code of Federal Regulations, Part 7.

Dated: July 8, 2014.
Andrew L. Bates,
Advisory Committee Management Officer.

[FR Doc. 2014-16584 Filed 7-14-14; 8:45 am]

BILLING CODE 7590-01-P